DEPARTMENT OF COMMERCE

National Oceanic and Atmospheric Administration

RIN: 0648-XU57

Mid-Atlantic Fishery Management Council; Public Meeting

AGENCY: National Marine Fisheries Service (NMFS), National Oceanic and Atmospheric Administration (NOAA), Commerce.

ACTION: Notice of a public meeting.

SUMMARY: The Mid-Atlantic Fishery Management Council (Council) will conduct an educational workshop on catch shares in cooperation with the Fisheries Leadership and Sustainability Forum (FLSF), the Atlantic States Marine Fisheries Commission (ASMFC), and the National Marine Fisheries Service (NMFS). The intent of this workshop is to share information and concerns about the use of catch shares by the MAFMC in managing fisheries within its jurisdiction and help decision makers learn from catch share management successes, failures, and challenges in other regions.

DATES: The workshop will be held Tuesday, March 16, 2010 through Thursday, March 18, 2010.

ADDRESSES: The workshop will be held at the Kingsmill Conference Center, 1010 Kingsmill Road, Williamsburg, VA, 23185; telephone: (800) 832-5665.

Council address: Mid-Atlantic Fishery Management Council, 800 N. State St., Suite 201, Dover, DE 19901; telephone: (302) 674-2331.

FOR FURTHER INFORMATION CONTACT: Daniel T. Furlong, Executive Director, Mid-Atlantic Fishery Management Council; telephone: (302) 674-2331.

SUPPLEMENTARY INFORMATION: The workshop will begin with participants' registration at 10 a.m. on Tuesday, March 16, 2010 and recess at 5:30 p.m. or when business is completed; reconvene at 8:30 a.m. on Wednesday, March 17, 2010 and recess at 5:45 p.m. or when business is completed; and, reconvene at 8:30 a.m. on Thursday, March 18, 2010 and recess no later than 4 p.m. An agenda and briefing materials will be posted to the Council website (www.mafmc.org) as they become available.

The workshop will be an educational forum to discuss catch share fishery management strategies. The term "catch share" encompasses a broad spectrum of fishery management systems that share a common approach: allocating a portion of a scientifically determined catch limit to a discrete set of users (i.e. individuals, groups, or communities). The MAFMC adopted the first catch share programs in the United States when it implemented an ITQ (individual transferable quota) program for the surfclam and ocean quahog fisheries in 1990. The MAFMC also recently (2009) implemented a catch share system for tilefish (IFQ - individual fishing quota).

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aid should be directed to M. Jan Bryan, (302) 674-2331 ext 18, at least 5 days prior to the meeting date.

Dated: February 22, 2010.
Tracey L. Thompson,
Acting Director, Office of Sustainable Fisheries, National Marine Fisheries Service.

[FR Doc. 2010-3805 Filed 2-24-10; 8:45 am]

BILLING CODE 3510-22-S